SECURITIES AND EXCHANGE COMMISSION

17 CFR Parts 229, 230, 232, 239, 240, 249, 270, 274, and 275

[Release No. 33-10618; 34-85381; IA-5206; IC-33426; File No. S7-08-17]

RIN 3235-AM00

FAST Act Modernization and Simplification of Regulation S-K

Correction

In rule document 2019-05695, appearing on pages 12674 through 12738, in the issue of Tuesday, April 2, 2019, make the following corrections:

1. On page 12675, in the table, in the second column, in the tenth line from the top of the page, the text entry that reads “§ 249.218” should read “§ 249.220f”.

PART 249—FORMS, SECURITIES EXCHANGE ACT OF 1934 [Corrected]

2. On page 12729, in the second column, five asterisks (* * * * *) indicating the existence of text not listed and unchanged should appear above the text reading “INSTRUCTIONS AS TO EXHIBITS”.

[FR Doc. C1-2019-05695 Filed 4-5-19; 8:45 am]

BILLING CODE 1301-00-D